DEPARTMENT OF AGRICULTURE

Agricultural Marketing Service

7 CFR Part 929

[Doc. No. AMS-SC-17-0066; SC17-929-3 C]

Cranberries Grown in States of Massachusetts, et al.; Establishment of Handler Diversion and Reporting Requirements and New Information Collection; Correction

AGENCY: Agricultural Marketing Service, USDA.

ACTION: Final rule; correction.

SUMMARY: The Agricultural Marketing Service is correcting a final rule that appeared in the Federal Register on July 12, 2018. The document implemented new information collection and reporting requirements for a handler diversion under the Cranberry marketing order (Order).

DATES: This correction is effective August 23, 2018.

FOR FURTHER INFORMATION CONTACT: Melissa Schmaedick, Marketing Order and Agreement Division, Specialty Crop Programs, AMS, USDA, 1400 Independence Avenue SW, STOP 0237, Washington, DC 20250-0237; Telephone: (202) 720-2491, Fax: (202) 720-8938 or Email: Melissa.Schmaedick@ams.usda.gov.

Small businesses may request information on complying with this regulation by contacting Richard Lower, Marketing Order and Agreement Division, Specialty Crops Program, AMS, USDA, 1400 Independence Avenue SW, STOP 0237, Washington, DC 20250-0237; Telephone: (202) 720-2491, Fax: (202) 720-8938, or Email: Richard.Lower@ams.usda.gov.

SUPPLEMENTARY INFORMATION: In FR Doc. 2018-14939, beginning on page 32193 in the Federal Register of July 12, 2018, the following correction is made:

1. On page 32196, in the second column, the sentence, “The five currently approved forms in 0581-0304 and one additional form will be merged with forms currently approved under OMB No. 0581-0189, Fruit Crops.” is corrected to read “The five currently approved forms in 0581-0304 and one additional form (Handler Withholding Final Report that OMB pre-approved under 0581-0313) will be finalized with the publishing of this rule.

The two collections, 0581-0304 and 0581-0313, will be merged with forms currently approved under OMB No. 0581-0189, Fruit Crops.”

Dated: August 16, 2018.
Bruce Summers,
Administrator, Agricultural Marketing Service.

[FR Doc. 2018-18039 Filed 8-21-18; 8:45 am]

BILLING CODE 3410-02-P